DEPARTMENT OF COMMERCE

National Oceanic and Atmospheric Administration

RIN 0648-XO21

Endangered Species; File No. 13543

AGENCY: National Marine Fisheries Service (NMFS), National Oceanic and Atmospheric Administration (NOAA), Commerce.

ACTION: Issuance of permit.

SUMMARY: Notice is hereby given that South Carolina Department of Natural Resources, 217 Ft. Johnson Rd., Charleston, SC 29412, has been issued a permit to take loggerhead (Caretta caretta), green (Chelonia mydas), Kemp's ridley (Lepidochelys kempii), leatherback (Dermochelys coriacea), olive ridley (Lepidochelys olivacea) and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 427-2521;

Southeast Region, NMFS, 263 13th Ave South, St. Petersburg, FL 33701; phone (727) 824-5312; fax (727) 824-5309.

FOR FURTHER INFORMATION CONTACT: Patrick Opay or Amy Hapeman, (301) 713-2289.

SUPPLEMENTARY INFORMATION: On August 7, 2008, notice was published in the Federal Register (73 FR 45967) that a request for a scientific research permit to take sea turtles had been submitted by the above-named organization. The requested permit has been issued under the authority of the Endangered Species Act of 1973, as amended (ESA; 16 U.S.C. 1531 et seq.) and the regulations governing the taking, importing, and exporting of endangered and threatened species (50 CFR parts 222-226).

The proposed research will further the understanding of the growth, distribution, and life history of sea turtles. The five-year permit will allow researchers to annually handle, measure, weigh, passive integrated transponder tag, flipper tag, and photograph up to 45 loggerhead, 6 green, 15 Kemp's ridley, 6 leatherback, 2 olive ridley, and 2 hawksbill sea turtles. These animals would have already been captured by authorized coastal trawl surveys taking place in waters off of North Carolina to Florida.

Issuance of this permit, as required by the ESA, was based on a finding that such permit (1) was applied for in good faith, (2) will not operate to the disadvantage of such endangered or threatened species, and (3) is consistent with the purposes and policies set forth in section 2 of the ESA.

Dated: April 30, 2009.
P. Michael Payne,
Chief, Permits, Conservation and Education Division, Office of Protected Resources, National Marine Fisheries Service.

[FR Doc. E9-10512 Filed 5-5-09; 8:45 am]

BILLING CODE 3510-22-S